DEPARTMENT OF COMMERCE

International Trade Administration

[A-570-848]

Freshwater Crawfish Tail Meat From the People's Republic of China; Notice of Final Results of Antidumping Duty New Shipper Reviews

AGENCY: Import Administration, International Trade Administration, U.S. Department of Commerce.

SUMMARY: On April 10, 2001, the Department of Commerce (the Department) published the preliminary results of its new shipper reviews of the antidumping duty order on freshwater crawfish tail meat from the People's Republic of China (PRC). See Preliminary Results of New Shipper Reviews and Rescission of a New Shipper Review: Freshwater Crawfish Tail Meat From the People's Republic of China, 66 FR 18604 (April 10, 2001). The new shipper reviews cover the period September 1, 1999 through March 31, 2000.

Based on our analysis of the comments received, we have made changes to the margin calculations. Therefore, the final results differ from the preliminary results. The final weighted-average dumping margins for the reviewed firms are listed below in the section entitled “Final Results of Reviews.”

EFFECTIVE DATE: August 27, 2001.

FOR FURTHER INFORMATION CONTACT: Jacqueline Arrowsmith or Maureen Flannery; Office of Antidumping/Countervailing Duty Enforcement VII, Import Administration, International Trade Administration, U.S. Department of Commerce, 14th Street and Constitution Avenue, NW., Washington DC 20230; telephone (202) 482-4052 and (202) 482-3020, respectively.

Applicable Statute

Unless otherwise indicated, all citations to the statute are references to the provisions effective January 1, 1995, the effective date of the amendments made to the Tariff Act of 1930 (the Act) by the Uruguay Round Agreements Act. In addition, unless otherwise indicated, all citations to the Department's regulations are to the provisions codified at 19 CFR part 351 (2000).

Background

The companies covered by these new shipper reviews are China Kingdom Import & Export Co., Ltd. (China Kingdom), Nantong Shengfa Frozen Food Co., Ltd. (Nantong Shengfa), and Weishan Fukang Frozen Foodstuffs Co., Ltd. (Weishan Fukang). Since the publication of the preliminary results (see Preliminary Results of Antidumping Duty New Shipper Administrative Reviews and Rescission of a New Shipper Review: Freshwater Crawfish Tail Meat From the People's Republic of China, 66 FR 18604 (April 10, 2001) (Preliminary Results)), the following events have occurred. On April 30, 2001, we received a timely submission of publicly available information on the surrogate value for whole live crawfish from the Crawfish Processors Alliance (petitioner) and the Louisiana Department of Agriculture & Forestry and Bob Odom, Commissioner, and from China Kingdom. The petitioner's publicly available information addressed the use of Australian crawfish as the surrogate value for whole crawfish.

On May 10, 2001, we received case briefs from the petitioner and from China Kingdom. On May 15, 2001, we received rebuttal briefs from petitioner, China Kingdom, and Weishan Fukang.

On June 20, 2001, the Department faxed a memorandum giving notice that we were sending teams to Australia and Mexico during the last week of June. From June 25 through June 29, 2001, the Department conducted research in Australia and Mexico to examine information that had been put on the record by the parties to the proceeding concerning the value of whole live crawfish as an input for tail meat. See Memorandum to the File from Abdelali Elouaradia and Thomas Gilgunn: Freshwater Crawfish Tail Meat from the People's Republic of China: Meetings Regarding the Crawfish Industry in Western Australia, dated July 18, 2001; and Memorandum to the File from Jacqueline Arrowsmith and Mark Hoadley: Freshwater Crawfish Tail Meat from the People's Republic of China: Meetings Regarding the Crawfish Industry in Mexico, also dated July 18, 2001.

We invited interested parties to comment. Parties were allowed five days to comment and two additional days to submit rebuttal comments. On July 23, 2001, we received comments from petitioner. On July 24, 2001, we received comments from China Kingdom. On July 25, 2001, we received rebuttal comments from petitioner, China Kingdom and Weishan Fukang. We rejected China Kingdom's July 24 and July 25, 2001 submissions because these submissions included new information that was untimely submitted. China Kingdom resubmitted these submissions on August 10, 2001, and August 2, 2001 respectively, and we have included these comments in our analysis for these final results.

On July 31, 2001, we issued two additional memoranda about the results of our research with respect to whole live crawfish. See Memorandum to the File from Abdelali Elouaradia, Mark Hoadley, Jacky Arrowsmith and Christian Hughes: Communication and Findings Regarding Whole Live Crawfish Production in Reference to the Administrative Review and New Shipper Reviews of Freshwater Crawfish Tail Meat from the People's Republic of China, dated July 31, 2001; and Memorandum to the File from Abdelali Elouaradia and Thomas Gilgunn: Freshwater Crawfish Tail Meat (crawfish) from the People's Republic of China (PRC): Meetings Regarding the Crawfish Industry in Western Australia—Cambinata Yabbies, also dated July 31, 2001.

We invited interested parties to comment. Interested parties were allowed two days to comment and two additional days to submit rebuttal comments. On August 2, 2001, we received comments from petitioner and Weishan Fukang.

On August 6, 2001, the Department conducted a public hearing on the issues presented by interested parties in their case and rebuttal briefs and in their comments on the crawfish surrogate value memoranda.

The Department has now completed these reviews in accordance with section 751(a)(2)(B) of the Act.

Scope of Reviews

The product covered by these reviews is freshwater crawfish tail meat, in all its forms (whether washed or with fat on, whether purged or unpurged), grades, and sizes; whether frozen, fresh, or chilled; and regardless of how it is packed, preserved, or prepared. Excluded from the scope of the order are live crawfish and other whole crawfish, whether boiled, frozen, fresh, or chilled. Also excluded are saltwater crawfish of any type, and parts thereof. Freshwater crawfish tail meat is currently classifiable in the Harmonized Tariff Schedule of the United States (HTS) under item numbers 1605.40.10.10 and 1605.40.10.90, which are the new HTS for prepared foodstuffs, indicating peeled crawfish tail meat and other, as introduced by the U.S. Customs Service in mid-year 2000, and HTS items 0306.19.00.10 and 0306.29.00, which are reserved for fish and crustaceans in general. The HTS subheadings are provided for convenience and Customs purposes only. The written description of the scope of this order is dispositive.

Analysis of Comments Received

All issues raised in the briefs filed by parties to these new shipper reviews are addressed in the Issues and Decision Memorandum from Joseph A. Spetrini, Deputy Assistant Secretary for AD/CVD Enforcement Group III, to Faryar Shirzad, Assistant Secretary for Import Administration: Issues and Decision Memo for the Final Results of the Antidumping New Shipper Reviews of Freshwater Crawfish Tail Meat from the People's Republic of China, dated August 20, 2001 (Decision Memo), which is hereby adopted by this notice.

A list of the issues which parties have raised and to which we have responded, all of which are in Decision Memo, is attached to this notice as an appendix. Parties can find a complete discussion of all issues raised in these reviews and the corresponding recommendations in this public memorandum, which is on file in the Central Records Unit, room B-099 of the main Commerce Building. In addition, a complete version of Decision Memo can be accessed directly on the internet at http://ia.ita.doc.gov. The paper copy and electronic version of Decision Memo are identical in content.

Changes Since the Preliminary Results

Based on our analysis of comments received, we have made certain changes in the margin calculations. For a discussion of the issues and changes made for each company, refer to Decision Memo.

Valuation of Crawfish Input

In the investigation of sales at less than fair value (LTFV) and in previous reviews of this order, we used data on imports into Spain from Portugal to value the live crawfish input for tail meat production. See e.g., Freshwater Crawfish Tail Meat from the People's Republic of China: Final Results of Antidumping Administrative Reviews and New Shipper Reviews and Final Partial Rescission of Antidumping Duty Administrative Reviews, 66 FR 20634 (April 24, 2001) (1998-1999 Final Results). However, information on the record of the current new shipper reviews indicates that the volume of imports from Portugal into Spain has decreased significantly since the period of the investigation and the first administrative review, and constituted a mere 17 metric tons during the period of these new shipper reviews. For this reason, we used data on Spanish exports to the European Union, which were in significant quantities, as an alternative to import data for the preliminary results of these new shipper reviews.

For 1998-1999 Final Results, we used data on imports into Spain from Portugal because both petitioner and respondents argued against the use of the export data used in the preliminary results for these new shipper reviews, because they appeared to include exports of items other than live crawfish. For further details, see 1998-1999 Final Results. After analyzing the comments received, we determined that the best available information on the record of the administrative and new shipper reviews for September 1998 through August 1999 was data on Spanish imports of live crawfish from Portugal published by Agencia Tributaria of the Spanish government. This is the same source that we had used in the investigation and previous reviews of this order. However, in the 1998-1999 Final Results, we announced our intention to search for alternative sources of surrogate data for the live crawfish input in other ongoing and future reviews.

We conducted such a search in connection with the instant new shipper reviews. See Memorandum to the File from Abdelali Elouaradia and Thomas Gilgunn: Freshwater Crawfish Tail Meat from the People's Republic of China: Meetings Regarding the Crawfish Industry in Western Australia, dated July 18, 2001; Memorandum to the File from Jacqueline Arrowsmith and Mark Hoadley: Freshwater Crawfish Tail Meat from the People's Republic of China: Meetings Regarding the Crawfish Industry in Mexico, dated July 18, 2001; Memorandum to the File from Abdelali Elouaradia, Mark Hoadley, Jacky Arrowsmith and Christian Hughes: Communication and Findings Regarding Whole Live Crawfish Production in Reference to the Administrative Review and New Shipper Reviews of Freshwater Crawfish Tail Meat from the People's Republic of China, dated July 31, 2001; and Memorandum to the File from Abdelali Elouaradia and Thomas Gilgunn: Freshwater Crawfish Tail Meat (crawfish) from the People's Republic of China (PRC): Meetings Regarding the Crawfish Industry in Western Australia—Cambinata Yabbies, dated July 31, 2001.

We have found that, in Australia, there are commercial sales of whole live freshwater crawfish comparable to the whole live freshwater crawfish used in the production of subject merchandise, and we obtained data on such sales. We found an indication of a crawfish industry in Spain, but we were unable to obtain sales data for that industry. We do not find that a commercial crawfish industry exists in any other country at this time. Therefore, we are using sales of comparable Australian freshwater crawfish, the yabby, to value the raw crawfish input for these final results. We have determined that yabbies between 30 and 40 grams are the most comparable to the raw crawfish input of Chinese producers. For further details, see Decision Memo.

The Adjustment to Raw Crawfish Input for Scrap

All three exporters claimed, and we granted, an adjustment to the raw material input value for scrap. In the preliminary results, we made no adjustment for differences between the wet condition of the crawfish scrap as it was sold in China and the dry condition of the scrap that was used to value the Chinese scrap. For these final results we have determined that the scrap was sold wet and have made the appropriate adjustment. For further details, see Decision Memo.

Final Results of Reviews

We determine that the following weighted-average margins exist for the period September 1, 1999 through March 31, 2000:

Manufacturer/exporter | Margin (percent)
China Kingdom | 57.87
Nantong Shengfa | 14.87
Weishan Fukang | 14.40

Assessment Rates

The Department shall determine, and the Customs Service shall assess, antidumping duties on all appropriate entries. In accordance with 19 CFR 351.212(b), we have calculated importer-specific ad valorem duty assessment rates. We will direct the Customs Service to assess the resulting percentage margins against the entered Customs values for the subject merchandise on each of that importer's entries under the relevant order during the review period (see 19 CFR 351.212(a)). Pursuant to 19 CFR 351.106(c)(2), we will instruct the Customs Service to liquidate without regard to antidumping duties all entries for any importer for whom the assessment rate is de minimis (i.e., less than 0.50 percent). For entries from the PRC non-market economy (NME) entity companies (i.e., PRC exporters which are not entitled to separate rates), the Customs Service shall assess ad valorem duties at the PRC-wide rate. Because the PRC-wide entity was not reviewed during this period of review (POR), the PRC-wide was not reviewed during this period of review (POR), the PRC-wide rate remains that established in the administrative review for the most recent period.

Cash Deposit Requirements

The following deposit requirements will be effective upon publication of this notice of new shipper reviews for all shipments of freshwater crawfish tail meat from the PRC entered, or withdrawn from warehouse, for consumption on or after the date of publication, as provided by section 751(a)(2)(C) of the Act: (1) The cash deposit rates for the reviewed companies will be the rates shown above except that, for firms whose weighted-average margins are less than 0.5 percent and therefore de minimis, the Department shall require no deposit of estimated antidumping duties; (2) for previously-reviewed PRC and non-PRC exporters with separate rates, the cash deposit rate will be the company-specific rate established for the most recent period; (3) for all other PRC exporters, the cash deposit rate will be the PRC-wide rate, 201.63 percent; and (4) for all other non-PRC exporters of the subject merchandise, the cash deposit rate will be the rate applicable to the PRC supplier of that exporter. These deposit requirements shall remain in effect until publication of the final results of the next administrative review.

This notice serves as a final reminder to importers of their responsibility under 19 CFR 351.402(f) to file a certificate regarding the reimbursement of antidumping duties prior to liquidation of the relevant entries during this review period. Failure to comply with this requirement could result in the Secretary's presumption that reimbursement of antidumping duties occurred and subsequent assessment of double antidumping duties.

This notice also serves as a reminder to parties subject to administrative protective order (APO) of their responsibility concerning the disposition of proprietary information disclosed under APO in accordance with section 351.305(a)(3) of the Department's regulations. Timely written notification of the return/destruction of APO materials or conversion to judicial protective order is hereby requested. Failure to comply with the regulations and the terms of an APO is a sanctionable violation.

These new shipper reviews and notice are in accordance with sections 751(a)(2)(B) and 777(i)(1) of the Act.

Dated: August 20, 2001.
Joseph A. Spetrini,
Acting Assistant Secretary for Import Administration.

Appendix—List of Issues

1. Use of Australian Data as a Surrogate Value for Whole Live Freshwater Crawfish

2. Use of Mexican Data as a Surrogate Value for Whole Live Freshwater Crawfish

3. Crawfish Grown in Mexico Are Wild Like Crawfish Grown in China

4. Comment Periods for the Mexican and Australian Reports were Insufficient

5. Use of Factual Findings Related to Surrogate Values for Whole Live Freshwater Crawfish

6. Spanish Export Prices Are not Appropriate as a Surrogate Value for Whole Live Freshwater Crawfish

7. Application of The Continued Dumping and Subsidy Offset Act (Byrd Amendment)

8. Crawfish By-Product Adjustment

9. Ministerial Error in Calculation of the By-Product Adjustment

10. Application of Partial Facts Available for China Kingdom

11. Finnish Production Data from the Department's July 31, 2001 “Crawfish Research Report” Memorandum

12. Department's Findings from “Crawfish Research Report” Memorandum

[FR Doc. 01-21608 Filed 8-24-01; 8:45 am]

BILLING CODE 3510-DS-P